DEPARTMENT OF COMMERCE

International Trade Administration

[A-580-867]

Large Power Transformers From the Republic of Korea: Continuation of Antidumping Duty Order

AGENCY: Enforcement and Compliance, International Trade Administration, Department of Commerce.

SUMMARY: The Department of Commerce (Commerce) and the U.S. International Trade Commission (ITC) determined that revocation of the antidumping duty (AD) order on large power transformers (LPTs) from the Republic of Korea (Korea) would likely lead to a continuation or recurrence of dumping and material injury to an industry in the United States. Therefore, Commerce is publishing a notice of continuation for this AD order.

DATES: Applicable October 16, 2018.

FOR FURTHER INFORMATION CONTACT: Brian Davis, AD/CVD Operations, Office VI, Enforcement and Compliance, International Trade Administration, U.S. Department of Commerce, 1401 Constitution Avenue NW, Washington, DC 20230; telephone: (202) 482-7924.

SUPPLEMENTARY INFORMATION:

Background

On August 31, 2012, Commerce published in the Federal Register the AD order on LPTs from Korea.¹ On July 3, 2017, Commerce published in the Federal Register a notice of initiation of its first five-year (sunset) review of the AD order on LPTs from Korea, pursuant to section 751(c) of the Tariff Act of 1930, as amended (the Act).²

¹ See Large Power Transformers from the Republic of Korea: Antidumping Duty Order, 77 FR 53177 (August 31, 2012) (AD Order).

² See Initiation of Five-Year (“Sunset”) Reviews), 82 FR 30844 (July 3, 2017).

Commerce conducted this sunset review on an expedited basis, pursuant to section 751(c)(3)(B) of the Act and 19 CFR 351.218(e)(1)(ii)(C)(2), because it received a complete, timely, and adequate response from a domestic interested party but no substantive responses from respondent interested parties. As a result of this sunset review, Commerce determined that revocation of the AD order on LPTs from Korea would likely lead to a continuation or recurrence of dumping and, therefore, notified the ITC of the magnitude of the margins likely to prevail should the order be revoked.³

³ See Large Power Transformers from the Republic of Korea: Final Results of the Expedited First Sunset Review of the Antidumping Duty Order, 82 FR 51604 (November 7, 2017) and accompanying Issues and Decision Memorandum.

On October 2, 2018, the ITC published its determination that revocation of the AD order on LPTs would likely lead to a continuation or recurrence of material injury to an industry in the United States within a reasonably foreseeable time, pursuant to section 751(c) of the Act.⁴

⁴ See Large Power Transformers from the Republic of Korea, 82 FR 49575 (October 2, 2018).

Scope of the Order

The scope of this order covers large liquid dielectric power transformers (LPTs) having a top power handling capacity greater than or equal to 60,000 kilovolt amperes (60 megavolt amperes), whether assembled or unassembled, complete or incomplete.

Incomplete LPTs are subassemblies consisting of the active part and any other parts attached to, imported with or invoiced with the active parts of LPTs. The “active part” of the transformer consists of one or more of the following when attached to or otherwise assembled with one another: The steel core or shell, the windings, electrical insulation between the windings, the mechanical frame for an LPT.

The product definition encompasses all such LPTs regardless of name designation, including but not limited to step-up transformers, step-down transformers, autotransformers, interconnection transformers, voltage regulator transformers, rectifier transformers, and power rectifier transformers.

The LPTs subject to this order are currently classifiable under subheadings 8504.23.0040, 8504.23.0080 and 8504.90.9540 of the Harmonized Tariff Schedule of the United States (HTSUS). Although the HTSUS subheadings are provided for convenience and customs purposes, the written description of the scope of this order is dispositive.

Continuation of the Order

As a result of the determinations by Commerce and the ITC that revocation of the AD order would likely lead to a continuation or recurrence of dumping and material injury to an industry in the United States, pursuant to section 751(d)(2) of the Act and 19 CFR 351.218(a), Commerce hereby orders the continuation of the AD order on LPTs from Korea.

CBP will continue to collect antidumping duty cash deposits at the rates in effect at the time of entry for all imports of subject merchandise. The effective date of the continuation of this order will be the date of publication in the Federal Register of the notice of continuation of the AD order on LPTs. Pursuant to section 751(c)(2) of the Act, Commerce intends to initiate the sunset review of this order not later than 30 days prior to the fifth anniversary of the effective date of continuation.

This sunset review and this notice are in accordance with sections 751(c) and 752(d)(2) of the Act and published pursuant to section 777(i)(1) of the Act and 19 CFR 351.218(f)(4).

Dated: October 10, 2018.
Gary Taverman,
Deputy Assistant Secretary for Antidumping and Countervailing Duty Operations, performing the non-exclusive functions and duties of the Assistant Secretary for Enforcement and Compliance.

[FR Doc. 2018-22454 Filed 10-15-18; 8:45 am]

BILLING CODE 3510-DS-P